DEPARTMENT OF THE INTERIOR

National Park Service

Notice of Inventory Completion: Warren Anatomical Museum, Harvard University, Boston, MA

AGENCY: National Park Service, Interior.

ACTION: Notice.

Notice is here given in accordance with the Native American Graves Protection and Repatriation Act (NAGPRA), 25 U.S.C. 3003, of the completion of an inventory of human remains in the possession and control of the Warren Anatomical Museum, Harvard University, Boston, MA. The human remains were removed from Duval County, FL.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Peabody Museum of Archaeology and Ethnology and Warren Anatomical Museum professional staff in consultation with representatives of the Miccosukee Tribe of Indians of Florida, Seminole Nation of Oklahoma, and Seminole Tribe of Florida (Dania, Big Cypress, Brighton, Hollywood & Tampa Reservations).

In 1889, human remains representing a minimum of one individual were removed from “Pablo Beach” (now Jacksonville Beach), Duval County, FL, by Walter B. Currier. The human remains were donated to the Harvard Odontological Society by Mr. Currier later that same year. In 1892, the Harvard Odontological Society loaned these human remains to the Harvard Dental School Museum. By the late 1960s, the Dental Museum had been dissolved and its remaining holdings were transferred to Harvard Medical School's Francis A. Countway Library of Medicine, which includes the Warren Anatomical Museum. In 2009, the Harvard Odontological Society donated these human remains to the Warren Anatomical Museum for the purpose of NAGPRA implementation. No known individual was identified. No associated funerary objects are present.

Museum documentation identifies the individual as “Seminole” from an “Indian Mound” in Pablo Beach (now Jacksonville Beach), FL. Osteological information suggests that this individual most likely dates from the Protohistoric to early Historic Periods. The human remains were collected from an area commonly considered to be traditional Seminole territory during those periods. Oral traditions and historic evidence supports the cultural affiliation to Seminole people. The Seminole are represented by the Miccosukee Tribe of Indians of Florida, Seminole Nation of Oklahoma, and Seminole Tribe of Florida.

Officials of the Peabody Museum of Archaeology and Ethnology and Warren Anatomical Museum have determined that, pursuant to 25 U.S.C. 3001 (9-10), the human remains described above represent the physical remains of one individual of Native American ancestry. Officials of the Peabody Museum of Archaeology and Ethnology and Warren Anatomical Museum also have determined that, pursuant to 25 U.S.C. 3001 (2), there is a relationship of shared group identity that can be reasonably traced between the Native American human remains and the Miccosukee Tribe of Indians of Florida, Seminole Nation of Oklahoma, and Seminole Tribe of Florida.

Representatives of any other Indian tribe that believes itself to be culturally affiliated with the human remains should contact Patricia Capone, Repatriation Coordinator, Peabody Museum of Archaeology and Ethnology, Harvard University, 11 Divinity Ave., Cambridge, MA 02138, telephone (617) 496-2047, before November 27, 2009. Repatriation of the human remains to the Miccosukee Tribe of Indians of Florida, Seminole Nation of Oklahoma, and Seminole Tribe of Florida may proceed after that date if no additional claimants come forward.

The Peabody Museum of Archaeology and Ethnology, Harvard University is responsible for notifying the Miccosukee Tribe of Indians of Florida, Seminole Nation of Oklahoma, and Seminole Tribe of Florida that this notice has been published.

Dated: October 7, 2009
Sherry Hutt,
Manager, National NAGPRA Program.

[FR Doc. E9-25967 Filed 10-27-09; 8:45 am]

BILLING CODE 4312-50-S